GENERAL SERVICES ADMINISTRATION

41 CFR Part 102-39

[FMR Amendment 2010-01; FMR Case 2009-102-3; Docket No. 2009-0002, Sequence 5]

RIN 3090-AI92

Federal Management Regulation; Replacement of Personal Property Pursuant to the Exchange/Sale Authority

AGENCY: Office of Governmentwide Policy, General Services Administration (GSA).

ACTION: Final rule.

SUMMARY: The General Services Administration (GSA) is amending the Federal Management Regulation (FMR) by making changes to its policy on the replacement of personal property pursuant to the exchange/sale authority.

DATES: This final rule is effective on June 7, 2010.

FOR FURTHER INFORMATION CONTACT: For clarification of content, contact Mr. Robert Holcombe, Office of Governmentwide Policy, Office of Travel, Transportation, and Asset Management (MT), (202) 501-3828 or e-mail at robert.holcombe@gsa.gov. For information pertaining to status or publication schedules contact the Regulatory Secretariat, 1800 F Street, NW., Room 4041, Washington, DC 20405, (202) 501-4755. Please cite FMR Amendment 2010-01; FMR Case 2009-102-3.

SUPPLEMENTARY INFORMATION:

A. Background

A proposed rule was published in the Federal Register at 74 FR 30493 on June 26, 2009. Three changes were proposed. One proposed change, removing the exchange/sale prohibition on aircraft and airframe structural components subject to certain conditions, received several comments. GSA is considering those comments and has decided not to go forward with that change at this time.

Another proposed change considered removing the prohibition on using scrap property in an exchange/sale transaction when the property had utility and value at the point in time when a determination was made to use the exchange/sale authority, thus addressing situations where the dismantling of property rendered it as “scrap”, but where replacement of property similar to the originally-configured property is still required. Only one substantive comment was received regarding that proposed change. The commenter suggested that property which has been coded as scrap because of damage caused by, for example, natural disaster or accident, should also be eligible for exchange/sale. GSA agrees with that comment, and has addressed it in the final rule.

The third proposed change was editorial in nature. GSA received no comments regarding it.

B. Executive Order 12866

This final rule is excepted from the definition of “regulation” or “rule” under Section 3(d)(3) of Executive Order 12866, Regulatory Planning and Review, dated September 30, 1993 and, therefore, was not subject to review under Section 6(b) of that executive order.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-39

Government property management and personal property.

Dated: March 22, 2010.
Martha Johnson,
Administrator of General Services.

For the reasons set forth in the preamble, GSA amends 41 CFR part 102-39 as set forth below:

PART 102-39—REPLACEMENT OF PERSONAL PROPERTY PURSUANT TO THE EXCHANGE/SALE AUTHORITY

1. The authority citation for 41 CFR part 102-39 continues to read as follows:

Authority: 40 U.S.C. 121(c); 40 U.S.C. 503.

2. Amend § 102-39.60 by revising paragraph (e) to read as follows:

§ 102-39.60 What restrictions and prohibitions apply to the exchange/sale of personal property?

* * * * *

(e) Property with a condition code of scrap, as defined at FMR 102-36.40, except:

(1) Property that had utility and value at the point in time when a determination was made to use the exchange/sale authority;

(2) Property that was otherwise eligible for exchange/sale, but was coded as scrap due to damage (e.g., accident or natural disaster); or

(3) Scrap gold for fine gold.

* * * * *

§ 102-39.80 [Amended]

3. Amend § 102-39.80, second sentence, by adding “exchanged or” before the word “sold”.

[FR Doc. 2010-10663 Filed 5-5-10; 8:45 am]

BILLING CODE 6820-14-P